LEGAL SERVICES CORPORATION

Sunshine Act Meeting of the Board of Directors

TIME AND DATE: The Board of Directors of the Legal Services Corporation will meet on January 28-29, 2000. The meeting will begin on January 28, 2000 at 10:00 a.m. and continue until conclusion of the Board's agenda.

LOCATION: The Hyatt Regency Austin On Town Lake, 208 Barton Springs Road, Austin, Texas 78704.

STATUS OF MEETING: Open, except that a portion of the meeting may be closed pursuant to a vote of the Board of Directors to hold an executive session. At the closed session, the Corporation's General Counsel will report to the Board on litigation to which the Corporation is or may become a party, and the Board may act on the matters reported. The closing is authorized by the relevant provisions of the Government in the Sunshine Act [5 U.S.C. 552b(c)(10)] and the corresponding provisions of the Legal Services corporation's implementing regulation [45 CFR § 1622.5(h)]. A copy of the General Counsel's Certification that the closing is authorized by law will be available upon request.

MATTERS TO BE CONSIDERED:

Open Session

1. Approval of agenda.

2. Approval of minutes of the Board's meeting of November 20, 1999.

3. Approval of minutes of the executive session of the Board's meeting of November 20, 1999.

4. Consider and adopt the proposed Strategic Plan for the Corporation.

5. Public Speakers:

• Paul Furrh, Executive Director of the East Legal Services.

• Lisa Melton, Executive Director of the Texas Equal Access to Justice Foundation (Texas IOLTA).

• Velva Price, President, Travis County Bar Association.

6. Chairman's Report.

7. Member's Report.

8. President's Report.

9. Inspector General's Report.

10. Consider and act on the 1999 Annual Performance Reviews Committee's report on the annual evaluation of the Corporation's President.

11. Consider and act on the 1999 Annual Performance Reviews Committee's report on the annual evaluation of the Corporation's Inspector General.

12. Consider and act on possible dissolution of the Board's 1999 Annual Performance Reviews Committee.

13. Consider and act on proposed FY 2000 consolidated operating budget for the Corporation.

14. Presentation by the Office of Inspector General on the Corporation's FY'99 annual audit.

15. Consider and act on proposed appointment to the office of Vice President of Programs.

16. Report by Justice John Broderick on the recommendations of the Board Development Task Force.

17. Election of Board Chair.

18. Election of Board Vice-Chair.

19. Consider and act on Board committee appointments.

20. Consider and act on the extension of John McKay's contract of employment as President of the Corporation.

21. Adjustment of the rate of compensation to be paid to the President of the Corporation.

Closed Session

22. Briefing ¹ by the Inspector General on the activities of the Office of Inspector General.

¹ Any portion of the closed session consisting solely of staff briefings does not fall within the Sunshine Act's definition of the term “meeting” and, therefore, the requirements of the Sunshine Act do not apply to any such portion of the closed session. 5 U.S.C. 552(b)(a)(2) and (b). See also 45 C.F.R. § 1622.2 & 1622.3

23. Consider and act on the General Counsel's report on potential and pending litigation involving the Corporation.

Open Session

24. Consider and act on other business.

25. Public Comment.

CONTACT PERSON FOR INFORMATION: Victor M. Fortuno, Vice President for Legal Affairs, General Counsel and Secretary of the Corporation, at (202) 336-8800.

Special Needs: Upon request, meeting notices will be made available in alternate formats to accommodate visual and hearing impairments. Individuals who have a disability and need an accommodation to attend the meeting may notify Shannon Nicko Adaway, at (202) 336-8800.

Dated: January 19, 2000.
Victor M. Fortuno,
Vice President for Legal Affairs, General Counsel, and Corporation Secretary.

[FR Doc. 00-1639 Filed 1-19-00; 1:40 pm]

BILLING CODE 7050-01-M